SECURITIES AND EXCHANGE COMMISSION

Sunshine Act Meeting

FEDERAL REGISTER CITATION OF PREVIOUS ANNOUNCEMENT: [to be published]

STATUS: Closed meeting.

PLACE: 450 Fifth Street NW., Washington, DC.

DATE PREVIOUSLY ANNOUNCED: September 20, 2000.

CHANGE IN THE MEETING: Cancellation of meeting.

The closed meeting scheduled for Wednesday, September 27, 2000 at 11:00 a.m. has been cancelled.

Dated: September 26, 2000.
Jonathan G. Katz,
Secretary.

[FR Doc. 00-25095 Filed 9-26-00; 4:11 pm]

BILLING CODE 8010-01-M